DEPARTMENT OF DEFENSE

Office of the Secretary

Committee Meeting of the Defense Department Advisory Committee on Women in the Services (DACOWITS)

AGENCY: Department of Defense, Advisory Committee on Women in the Services.

ACTION: Notice.

SUMMARY: On December 27, 2002, the Department of Defense published a notice concerning the committee meeting of the Defense Department Advisory Committee on Women in the Services (DACOWITS)(67 FR 79063). The Deputy Secretary of Defense will make remarks on January 17, 2002 at 4:15. All other information remains unchanged.

Dated: January 9, 2003.
Patricia L. Toppings,
Alternate OSD Federal Register Liaison Officer, Department of Defense.

[FR Doc. 03-1694 Filed 1-24-03; 8:45 am]

BILLING CODE 5001-08-M